FEDERAL MEDIATION AND CONCILIATION SERVICE

Proposed Agency Information Collection Activities; Comment Request

AGENCY: Federal Mediation and Conciliation Service

ACTION: Notice of Forms R-22, R-19, R-43 and F-7 to be submitted for extension to the Office of Management and Budget.

SUMMARY: This notice announces that four information collection requests contained among the Federal Mediation and Conciliation Service (FMCS) agency forms have come up for renewal. FMCS will submit to the Office of Management and Budget (OMB) a request for review of these four FMCS forms: Arbitrator's Report and Fee Statement (Agency Form R-19), Arbitrator's Personal Data Questionnaire (Agency Form R-22), Request for Arbitration Services (Agency Form R-43) and Notice to Mediation Agencies (Agency Form F-7). The request will seek OMB approval for a three-year extension with an expiration date of January 31, 2010, for Forms R-19, R-22, R-43 and F-7. FMCS is soliciting comments on specific aspects of the collections as described below.

DATES: Comments must be submitted on or before January 29, 2007.

ADDRESSES: Submit written comments by mail to the Office of Arbitration Services, Federal Mediation and Conciliation Service, 2100 K Street, NW., Washington, DC 20427 or by contacting the person whose name appears under the section headed FOR FURTHER INFORMATION CONTACT.

Comments may be submitted also by fax at (202) 606-3749 or electronic mail (e-mail) to arbitration@fmcs.gov. All comments must be identified by the appropriate agency form number.

No confidential business information (CBI) should be submitted through e-mail. Information submitted as a comment concerning this document may be claimed confidential by marking any part or all of the information as “CBI”. Information so marked will not be disclosed but a copy of the comment that does contain CBI must be submitted for inclusion in the public record. FMCS may disclose information not marked confidential publicly without prior notice. All written comments will be available for inspection in Room 704 at the Washington, DC address above from 8:30 a.m. to 4:30 p.m., Monday through Friday, excluding legal holidays.

FOR FURTHER INFORMATION CONTACT: Vella M. Traynham, Director of Arbitration Services, FMCS, 2100 K Street, NW., Washington, DC 20427. Telephone (202) 606-5111; Fax (202) 606-3749.

SUPPLEMENTARY INFORMATION: Copies of each of the agency forms are available from the Office of Arbitration Services by calling, faxing or writing Vella M. Traynham at the address above. Please ask for the form by title and agency form number.

I. Information Collection Requests

FMCS is seeking comments on the following Information Collection Requests (ICRs).

Title: Arbitrator's Personal Data Questionnaire; Form R-22; OMB No. 3076-0001; Expiration date: January 31, 2006.

Type of Request: Extension of a previously approved collection with no change in the substance or method of collection.

Affected Entities: Parties affected by this information collection are individuals who apply for admission to the FMCS Roster of Arbitrators.

Frequency: Individuals complete this form once, which is at the time of application to the FMCS Roster of Arbitrators.

Abstract: Title II of the Labor Management Relations Act of 1947 (Pub. L. 90-101) as amended in 1959 (Pub. L. 86-257) and 1974 (Pub. L. 93-360), states that it is the labor policy of the United States that “the settlement of issues between employers and employees through collective bargaining may be advanced by making available full and adequate governmental facilities for conciliation, mediation, and voluntary arbitration to aid and encourage employers and representatives of their employees to reach and maintain agreements concerning rates of pay, hours, and working conditions, and to make all reasonable efforts to settle their differences by mutual agreement reached through conferences and collective bargaining or by such methods as may be provided for in any applicable agreement for the settlement of disputes” 29 U.S.C. 201(b). Under its regulations at 29 CFR part 1404, FMCS has established policies and procedures for its arbitration function dealing with all arbitrators listed on the FMCS Roster of Arbitrators, all applicants for listing on the Roster, and all person or parties seeking to obtain from FMCS either names or panels of names of arbitrators listed on the Roster in connection with disputes which are to be submitted to arbitration or fact-finding. FMCS strives to maintain the highest quality of dispute resolution experts on its Roster. To ensure that purpose, it asks all candidates to complete an application form. The purpose of this collection is to gather information about applicants for inclusion in the FMCS Roster of Arbitrators. This questionnaire is needed in order that FMCS may select highly qualified individuals for the arbitrator Roster. The respondents are private citizens who make application for appointment to the FMCS Roster.

Burden Statement: The number of respondents is approximately 100 individuals per year, which is the approximate number of individuals who request membership on the FMCS Roster. The time required to complete this questionnaire is approximately one hour. Each respondent is required to respond only once per application and to update the information as necessary.

Title: Arbitrator's Report and Fee Statement; Form R-19; OMB No. 3076-0003; Expiration date: January 31, 2006.

Type of Request: Extension of a previously approved collection with no change in the substance or method of collection.

Affected Entities: Individual arbitrators who render decisions under FMCS arbitration policies and procedures.

Frequency: This form is completed each time an arbitrator hears an arbitration case and issues a decision.

Abstract: Pursuant to 29 U.S.C. 171(b) and 29 CFR part 1404, FMCS assumes a responsibility to monitor the work of the arbitrators who serve on its Roster. This is satisfied by requiring the completion and submission of a Report and Fee Statement, which indicates when the arbitration award was rendered, the file number, the company and union, the issues, whether briefs were filed and transcripts taken, if there were any waivers by parties on the date the award was due, and the fees and days for services of the arbitrator. This information is contained in the agency's annual report to indicate the types of arbitration issues resolved, the applicable average or median arbitration fees and days spent on each case.

Burden Statement: FMCS receives approximately 2500 responses per year. The form is filled out each time an arbitrator hears a case and the time required is approximately ten minutes. FMCS uses this form to review arbitrator conformance with its fee and expense reporting requirements.

Title: Request for Arbitration Services; Form R-43; OMB No. 3076-0002; Expiration date: February 28, 2006.

Type of Request: Extension of a previously approved collection with no changes in the substance or method of collection.

Affected Entities: Employers and their representatives, and labor unions, their representatives and employees, who request arbitration services.

Frequency: This form is completed each time an employer or labor union requests a panel of arbitrators.

Abstract: Pursuant to 29 U.S.C. 171(b) and 29 CFR part 1404, FMCS offers panels of arbitrators for selection by labor and management to resolve grievances and disagreements arising under their collective bargaining agreements and to deal with fact finding and interest arbitration issues as well. The need for this form is to obtain information such as name, address and type of assistance desired, so that FMCS can respond to requests efficiently and effectively for various arbitration services. The purpose of this information collection is to facilitate the processing of the parties' request for arbitration assistance. No third party notification or public disclosure burden is associated with this collection.

Burden Statement: The current total annual burden estimate is that FMCS will receive requests from approximately 10,000 respondents per year. The form takes about 10 minutes to complete.

Title: Notice to Mediation Agencies; Form F-7; OMB No. 3076-0004; Expiration date: January 31, 2006.

Type of Request: Extension of a previously approved collection with no changes in the substance or method of collection.

Affected Entities: Parties affected by this information collection are private sector employers and labor unions involved in interstate commerce that file notices for mediation services to the FMCS and State, local and territorial agencies.

Frequency: Parties complete this form once, which is at the time of an impending expiration of a collective bargaining agreement.

Abstract: Under the Labor Management Relations Act of 1947, 29 U.S.C. 158(d), Congress listed specific notice provisions so that no party to a collective bargaining agreement can terminate or modify that contract, unless the party wishing to terminate or modify the contract sends a written notice to the other party sixty days prior to the expiration date (29 U.S.C. 158(d)(1)), and offers to meet and confer with the other party for the purpose of negotiating a new or modified contract (29 U.S.C. 158(d)(2)). Furthermore, the Act requires that parties notify the Federal Mediation and Conciliation Service within thirty days after such notice of the existence of a dispute and simultaneously notify any State or Territory where the dispute occurs (29 U.S.C. 158(d)(3)). The 1974 amendments to the National Labor Relations Act, which extended coverage to nonprofit health care institutions, also created a notification procedure in the health care industry requiring parties to notify each other 90 days in advance of termination and 60 days in advance to FMCS (29 U.S.C. 158(d)). This amendment also requires 30-day notification of bargaining for an initial agreement to the FMCS. To facilitate handling of more than 18,000 such notices a year, FMCS created a specific information collection form. The purpose of this information collection activity is for FMCS to comply with its statutory duty to receive these notices, to facilitate assignment of mediators to assist in labor disputes, and to assist the parties in knowing whether or not proper notice was given. The information from these notices is sent electronically to the appropriate field manager who assigns the cases to a mediator so that the mediator may contact labor and management quickly, efficiently, and offer dispute resolution services. Either party to a contract may make a request in writing for a copy of the notice filed with FMCS. The F-7 form was created to allow FMCS to gather desired information in a uniform manner. The collection of such information, including the name of the employer or employer association, address and phone number, e-mail address, official contact, bargaining unit and establishment size, location of affected establishment and negotiations, industry or type of business, principal product or service, union address, phone number, e-mail address and official contact, contract expiration date or renewal date, whether the notice is on file on behalf of the employer or the union, and whether this is a health care industry notice for an initial contract, is critical for reporting and mediation purposes.

Burden Statement: The current annual burden estimate is approximately 18,000 respondents. This one-page form takes about 10 minutes to complete.

II. Request for Comments

FMCS solicits comments to:

(i) Evaluate whether the proposed collection of information is necessary for the proper performance of the functions of the agency, including whether the information will have practical utility.

(ii) Enhance the accuracy of the agency's estimates of the burden of the proposed collection of information.

(iii) Enhance the quality, utility, and clarity of the information to be collected.

(iv) Minimize the burden of the collection of information on those who are to respond, including the use of appropriate automated, electronic collection technologies or other forms of information technology.

III. The Official Record

The official record is the paper electronic record maintained at the address at the beginning of this document. FMCS will transfer all electronically received comments into printed-paper form as they are received.

Dated: November 24, 2006.
Michael J. Bartlett,
Deputy General Counsel.

[FR Doc. E6-20207 Filed 11-28-06; 8:45 am]

BILLING CODE 6732-01-P